FEDERAL ELECTION COMMISSION

Sunshine Act Meeting

Time and Date: Wednesday, November 14, 2018 at 10:00 a.m.

Place: 1050 First Street NE, Washington, DC.

Status: This meeting will be closed to the public.

Matters to be Considered: Compliance matters pursuant to 52 U.S.C. 30109.

Matters concerning participation in civil actions or proceedings or arbitration.

* * * * *

Contact Person for More Information: Judith Ingram, Press Officer, Telephone: (202) 694-1220.

Laura E. Sinram,
Deputy Secretary of the Commission.

[FR Doc. 2018-24719 Filed 11-7-18; 4:15 pm]

BILLING CODE 6715-01-P